DEPARTMENT OF TRANSPORTATION

Federal Aviation Administration

Notice of Intent To Request Renewal From the Office of Management and Budget (OMB) of Eleven Current Public Collections of Information

AGENCY: Federal Aviation Administration (FAA), (DOT).

ACTION: Notice.

SUMMARY: In compliance with the Paperwork Reduction Act (44 U.S.C. 3501 et seq.), the FAA invites public comment on eleven current public information collections which will be submitted to OMB for renewal.

DATES: Comments must be submitted on or before June 25, 2001.

ADDRESSES: Comments may be mailed or delivered to FAA, at the following address: Ms. Judy Street, Room 612, Federal Aviation Administration, Standards and Information Division, APF-100, 800 Independence Avenue, SW., Washington, DC 20591.

FOR FURTHER INFORMATION CONTACT: Ms. Judy Street, at the above address or on (202) 267-9895.

SUPPLEMENTARY INFORMATION: The FAA solicits comments on any of the current collections of information in order to elevate the necessity of the collection, the accuracy of the agency's estimate of burden, the quality, utility, and clarity of the information to be collected, and possible ways to minimize the burden of collection. Also note, that an agency may not conduct or sponsor, and a person is not required to respond to, a collection of information unless it displays a currently valid OMB control number.

Following are short synopses of the eleven information collection activities which will be submitted to OMB for requests for renewal:

1. 2120-0018, Certification Procedures for Products and Parts—FAR 21

14 CFR part 21 prescribes certification procedures for aircraft, aircraft engines, propellers, products and parts. Information collected is used to determine compliance and applicant eligibility. The respondents are aircraft part's designers, manufacturers, and aircraft owners. The current annual estimated burden is 44,000 hours.

2. 2120-0020, Maintenance, Preventive Maintenance, Rebuilding, and Alteration

The information collection associated with 14 CFR part 43 is necessary to ensure that maintenance, rebuilding, or alteration of aircraft, aircraft components, etc., is performed by qualified individuals and at proper intervals. Further, maintenance records are essential to ensure that an aircraft is properly maintained and is mechanically safe for flight.

The respondents are certified mechanics, repair stations, and air carriers authorized to perform maintenance. Pilots are also authorized to perform and record preventive maintenance; however, the authorization applies only to those pilots who own or lease their aircraft for private operation. The current annual estimated reporting and recordkeeping burden associated with this requirement is 1.4 million hours.

3. 2120-0040, Aviation Maintenance Technician Schools—FAR 147

14 CFR part 147 prescribes requirements for certification and operation of aviation mechanic schools. The information is necessary to ensure that aviation maintenance technician schools meet the minimum requirements for procedures and curriculum set forth by the FAA. In addition, it is necessary for the FAA to develop minimum standards for properly qualified persons who would enter the aviation industry. The current estimated annual burden for reporting and recordkeeping is 75,000 hours.

4. 2120-0057, Safety Improvement Report Accident Prevention Counselor Activity Reports

Safety Improvements Reports are used by airmen to notify the FAA of hazards to flight operations. Accident Prevention Counselor Activity Reports are used by counselors to advise the FAA of Accident Prevention Program Accomplishments. The affected public are pilots, airport operators, charter and commuter aircraft operators engaging in air transportation. The current estimated annual burden for this reporting activity is 1,800 hours.

5. 2120-00067, Air Taxi and Commercial Operator Activity Survey

The information collected through this survey is restricted to all air taxi/commercial operators who are subject to the passenger transportation tax. Response to the survey is voluntary. Data collected is to serve as an input to the FAA revenue enplanement data-base which is used in allocating Airport Improvement Program (AIP) funds to airports. The current estimated annual burden for this information collection is 300 hours.

6. 2120-0508, Fuel Venting and Exhaust Emission Requirements for Turbine Engine Powered Airplanes

This is a labeling requirement to put the date of manufacture and compliance statues on the identification plate and is intended to minimize the effort required to determine whether a turbojet engine may legally be installed and operate on an aircraft in the United States as required by 14 CFR part 45. The current estimated annual burden associated with this submission is 100 hours.

7. 2120-0539, Implementation to the Equal Access to Justice Act (EAJA)

The EAJA provides for the award of attorney fees and other expenses to eligible individuals and entities who are parties to administrative proceedings before government agencies and who prevail over the government. The information collected will be used to determine whether an applicant is eligible to receive an award under the EAJA. The current annual estimated burden associated with this collection is 200 hours.

8. 2120-0569, Airport Grants Program

The FAA collects information from airport sponsors and planning agencies in order to administer the Airports Grants Program. Data is used to determine eligibility, ensure proper use of Federal funds, and ensure project accomplishments. The current estimated annual burden is 68,000 hours.

9. 2120-0631, Terrain Awareness and Warning System (TAWS)

This rule mandates a Terrain Awareness and Warning System (TAWS) for all turbine-powered airplanes of 6 or more passenger seating. The TAWS is a passive, electronic, safety device located in the avionics bay of the airplane. TAWS alerts pilots when there is terrain in the airplane's flight path. There is no hour burden associated with this passive information collection activity, only the monetary burden of installing the equipment.

10. 2120-0632, Office of Dispute Resolution Procedures for Protests and Contract Disputes—14 CFR Part 17

These are procedural requirements for the conduct of protests and contract disputes before the Office of Dispute Resolution for Acquisition. These procedures are designed to reduce the paperwork requirement ordinarily associated with such actions in other forums. The emphasis in the procedures is the resolution of a case as soon as is practicable, but also to provide for resolution through adjudication should the resolution require such. The current burden associated with this collection is 3,400 hours.

11. 2120-0634, Federal Aviation Administration, Eastern Region Airports Division Customer Survey

This survey will identify overall customer satisfaction with the conduct of business by the FAA Eastern Region Airports Division. The collected information will assess what is important to the customers, how well the FAA is doing business, and identify areas where changes in procedures and processes may be desirable. The information will be used to gauge the degree of satisfaction and relevancy of the FAA's business processes. The current estimated annual burden is 250 hours.

Issued in Washington, DC on April 20, 2001.
Steve Hopkins,
Manager, Standards and Information Division, APF-100.

[FR Doc. 01-10447 Filed 4-25-01; 8:45 am]

BILLING CODE 4910-13-M